DEPARTMENT OF THE INTERIOR

National Park Service

30-Day Federal Register Notice of Submission of Network to Freedom Application Package to Office of Management and Budget; Opportunity for Public Comment

AGENCY: Department of the Interior, National Park Service, National Underground Railroad Network to Freedom Program.

ACTION: Notice and request for comments.

SUMMARY: Under the provisions of the Paperwork Reduction Act of 1995 (Pub. L. 104-13, 44 U.S.C. 3507) and 5 CFR part 1320, Reporting and Recordkeeping Requirements, the National Park Service (NPS) invites comments on a submitted request to the Office of Management and Budget (OMB) to approve an extension of a currently approved information collection clearance (OMB 1024-0232). Comments are invited on (1) the need for the information including whether the information has practical utility; (2) the accuracy of this reporting burden estimate; (3) ways to enhance the quality, utility, and clarity of the information to be collected on respondents, including the use of automated collection techniques or other forms of information technology. This program will measure performance in meeting goals as required by the 1995 Government Performance and Results Act.

Public Law 105-203 authorizes the NPS to develop and administer the National Underground Railroad Network to Freedom (Network), a nationwide collection of governmental and nongovernmental sites, facilities, and programs associated with the historic Underground Railroad movement. The NPS has developed the application process through which associated elements can be included in the Network. The information collected will: (a) Verify associations to the Underground Railroad, (b) Measure minimum levels of standards for inclusion in the Network, and (c) Identify general needs for technical assistance.

The purpose of the proposed ICR is to evaluate sites, facilities, and programs that are applying for inclusion in the National Underground Railroad Network to Freedom. The information will be used by the NPS to determine if candidates seeking inclusion in the Network meet the minimum criteria. There were no public comments received as a result of publishing in the Federal Register a 60-day notice of intention to request clearance of information collection for this survey.

DATES: Public Comments on the proposed ICR will be accepted on or before January 5, 2004, to be assured of consideration. The Office of Management and Budget (OMB) has up to 60 days to approve or disapprove the information collection but may respond after 30 days. Therefore to ensure maximum consideration, OMB should receive comments 30 days from the date of publication in the Federal Register.

ADDRESSES: You may submit comments directly to Ms. Ruth Solomon, Desk Officer for the Department of the Interior (OMB 0124-0232), Office of Information and Regulatory Affairs, OMB, by fax at 202-395-6566 or by electronic mail at oira_docket@omb.eop.gov. Mail or hand carry a copy of your comments to Dianne Miller, National Coordinator, National Underground Railroad Network to Freedom Program, National Park Service, Midwest Regional Office, 1709 Jackson Street, Omaha, Nebraska, 68102. If you wish to send a copy of your comments by electronic mail, you may send them to diane_miller@nps.gov. All comments will become a matter of public record.

FOR FURTHER INFORMATION OR A COPY OF THE STUDY PACKAGE SUBMITTED FOR OMB REVIEW, CONTACT: Diane Miller, 402-221-3749 or James Hill, 402-221-3413 at National Park Service, 1709 Jackson Street, Omaha, Nebraska 68102.

SUPPLEMENTARY INFORMATION:

Title: NPS National Underground Railroad Network to Freedom Application.

Bureau Form Number: n/a.

OMB Number: 1024-0232.

Expiration Date: 11/30/2003.

Type of request: Extension of a currently approved information collection.

Description of need: The NPS has identified guidelines and criteria for associated elements to qualify for the Network. The application form documents sites, programs, and facilities and demonstrates that they meet the criteria established for inclusion. The documentation will be incorporated into a database that will be available to the general public for information purposes. The proposed information to be collected regarding these sites, facilities, and programs is not available from existing records, sources, or observations.

Automated data collection: Respondents must verify associations and characteristics through descriptive texts that are the result of historical research. Evaluations are based on subjective analysis of the information provided, which often includes copies of rare documents and photographs. Much of the information is submitted in electronic format, but at the present time, there is capacity to gather all of the required information electronically.

Description of respondents: The affected publics are state, tribal, and local governments, federal agencies, businesses, non-profit organizations, and individuals throughout the United States. Nominations to the Network are voluntary.

Estimated average number of respondents: 80.

Estimated average number of responses: 80.

Estimated average burden hours per response: 15.

Estimated frequency of response: Once per respondent.

Estimated annual reporting burden: 1200 hours.

Dated: October 24, 2003.
Leonard E. Stowe,
Acting, NPS Information Collection Clearance Officer, Washington Administrative Program Center.

[FR Doc. 03-30149 Filed 12-3-03; 8:45 am]

BILLING CODE 4310-70-M